DEPARTMENT OF DEFENSE

Department of the Army

Notice of Intent To Prepare an Environmental Impact Statement (EIS) for Grow the Army (GTA) Actions at Fort Carson, CO

AGENCY: Department of the Army, DoD.

ACTION: Notice of Intent (NOI).

SUMMARY: As part of the GTA effort, the U. S. Army intends to prepare an EIS to analyze the environmental and socioeconomic impacts resulting from the decision to station a new Infantry Brigade Combat Team (IBCT) at Fort Carson. The EIS will also analyze Fort Carson's Butts Army Airfield (BAAF) as a potential location for stationing a Combat Aviation Brigade (CAB) in the future.

ADDRESSES: For questions regarding the EIS, please contact Ms. Deb Owings or Ms. Robin Renn, Fort Carson National Environmental Policy Act Coordinators, 1638 Elwell Street, Building 6236, Fort Carson, CO 80913-4000. Written comments may be mailed to that address or e-mailed to CARSDECAMNEPA@conus.army.mil.

FOR FURTHER INFORMATION CONTACT: Ms. Dee McNuff, Fort Carson Public Affairs Office at (719) 526-1269, during normal business hours.

SUPPLEMENTARY INFORMATION: Fort Carson consists of approximately 137,000 acres of DOD-managed land south of Colorado Springs (east of the Rocky Mountain Front Range) and occupies portions of El Paso, Pueblo, and Fremont counties. The Pinon Canyon Maneuver Site (PCMS) is the primary maneuver training area for Fort Carson. In addition to the units stationed there, Fort Carson and the PCMS also provide training to Reserve units and the National Guard. The PCMS is located approximately 150 miles southeast of Fort Carson and consists of approximately 235,000 acres.

The stationing of additional BCTs and other force structure realignment actions across the Army was analyzed in the 2007 Final Programmatic EIS for Army Growth and Force Structure Realignment. The Record of Decision determined that Fort Carson would receive an additional IBCT contingent on site specific NEPA analysis. The Fort Carson GTA EIS will analyze environmental and socioeconomic impacts as a result of this decision. Also analyzed will be the potential stationing of a CAB and newly identified projects that would be required to support GTA actions.

Implementing these requirements would involve constructing new facilities at Fort Carson to support an IBCT (approximately 4,500 additional Soldiers and their dependents), the potential stationing of a CAB (approximately 2,800 Soldiers and their dependents) and upgrading ranges. Increased use of live-fire training ranges and maneuver areas would occur at Fort Carson and the PCMS.

The Fort Carson GTA EIS will analyze the impact of several alternatives including the No Action Alternative. Alternatives to be examined by the EIS may consist of alternative siting locations within Fort Carson for facility/utility construction projects, renovation and use of existing facilities. The EIS will also examine increases in land use intensity resulting from training activities connected with GTA stationing decisions. Under the No Action Alternative, the stationing of a new IBCT and CAB at Fort Carson would not be implemented.

Impacts analyzed will include a wide range of environmental resource areas including, but not limited to, air quality, traffic, noise, water resources, biological resources, cultural resources, socioeconomics, utilities, land use, solid and hazardous materials/waste, and cumulative environmental effects. Additional resources and conditions may be identified as a result of the scoping process initiated by this NOI.

The public will be invited to participate in the scoping process which includes several scoping meetings to provide input on the proposed actions and alternatives in the EIS. The public will also be invited to review and comment on the Draft EIS. These public involvement opportunities will be announced in the local news media. Comments from the public will be considered before any decision is made regarding implementing the proposed action at Fort Carson.

Dated: May 1, 2008.
Addison D. Davis, IV,
Deputy Assistant Secretary of the Army (Environment, Safety and Occupational Health).

[FR Doc. E8-10007 Filed 5-6-08; 8:45 am]

BILLING CODE 3710-08-M